INTERNATIONAL TRADE COMMISSION

[Investigation No. 701-TA-575 (Final)]

Tool Chests and Cabinets From China (Final)

Determination

On the basis of the record ¹ developed in the subject investigation, the United States International Trade Commission (“Commission”) determines, pursuant to the Tariff Act of 1930 (“the Act”), that an industry in the United States is materially injured by reason of imports of tool chests and cabinets from China, provided for in subheadings 7326.90.35, 7326.90.86, and 9403.20.00 of the Harmonized Tariff Schedule of the United States, that have been found by the Department of Commerce (“Commerce”) to be subsidized by the government of China.

¹ The record is defined in sec. 207.2(f) of the Commission's Rules of Practice and Procedure (19 CFR 207.2(f)).

Background

The Commission, pursuant to section 705(b) of the Act (19 U.S.C. 1671d(b), instituted this investigation effective April 11, 2017, following receipt of a petition filed with the Commission and Commerce by Waterloo Industries Inc., Sedalia, Missouri. The final phase of the investigation was scheduled by the Commission following notification of a preliminary determination by Commerce that imports of tool chests and cabinets from China were subsidized within the meaning of section 703(b) of the Act (19 U.S.C. 1671b(b)). Notice of the scheduling of the final phase of the Commission's investigation and of a public hearing to be held in connection therewith was given by posting copies of the notice in the Office of the Secretary, U.S. International Trade Commission, Washington, DC, and by publishing the notice in the Federal Register on September 25, 2017 (82 FR 44657). The hearing was held in Washington, DC, on November 28, 2017, and all persons who requested the opportunity were permitted to appear in person or by counsel.

The Commission made this determination pursuant to section 705(b) of the Act (19 U.S.C. 1671d(b)). It completed and filed its determination in this investigation on January 16, 2018. The views of the Commission are contained in USITC Publication 4753 (January 2018), entitled Tool Chests and Cabinets from China: Investigation No. 701-TA-575 (Final).

By order of the Commission.
Issued: January 16, 2018.
Lisa R. Barton,
Secretary to the Commission.

[FR Doc. 2018-00981 Filed 1-19-18; 8:45 am]

BILLING CODE 7020-02-P